NUCLEAR REGULATORY COMMISSION

[Docket Nos. 50-003, 50-247, 50-286, and 72-051; NRC-2020-0021]

Indian Point Nuclear Generating Unit Nos. 1, 2, and 3; Consideration of Approval of Transfer of Control of Licenses and Conforming Amendments

AGENCY: Nuclear Regulatory Commission.

ACTION: Application for direct and indirect transfers of licenses; opportunity to comment, request a hearing, and petition for leave to intervene; extension of comment period.

SUMMARY: On January 23, 2020, the U.S. Nuclear Regulatory Commission (NRC) solicited comments on an application for direct and indirect transfers of licenses in the Federal Register. The public comment period was originally scheduled to close on February 24, 2020. The NRC has decided to extend the public comment period until March 25, 2020, to allow more time for members of the public to develop and submit their comments.

DATES: The due date for comments requested in the document published on January 23, 2020 (85 FR 3947), is extended. Comments should be filed no later than March 25, 2020. Comments received after this date will be considered, if it is practical to do so, but the Commission is able to ensure consideration only for comments received on or before this date.

ADDRESSES: You may submit comments by any of the following methods:

• Federal Rulemaking Web Site: Go to https://www.regulations.gov and search for Docket ID NRC-2020-0021. Address questions about NRC docket IDs in Regulations.gov to Jennifer Borges; telephone: 301-287-9127; email: Jennifer.Borges@nrc.gov. For technical questions, contact the individual listed in the FOR FURTHER INFORMATION CONTACT section of this document.

• Email comments to: Hearing.Docket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Richard V. Guzman, Office of Nuclear Reactor Regulation, U.S. Nuclear Regulatory Commission, Washington, DC 20555-0001; telephone: 301-415-1030; email: Richard.Guzman@nrc.gov.

SUPPLEMENTARY INFORMATION:

I. Obtaining Information and Submitting Comments

A. Obtaining Information

Please refer to Docket ID NRC-2020-0021 when contacting the NRC about the availability of information for this action. You may obtain publicly-available information related to this action by any of the following methods:

• Federal Rulemaking Web Site: Go to https://www.regulations.gov and search for Docket ID NRC-2020-0021.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2020-0021 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On January 23, 2020, the NRC solicited comments on an application for direct and indirect transfers of licenses, dated November 21, 2019 (ADAMS Accession No. ML19326B953). The application was filed by Entergy Nuclear Operations, Inc. (ENOI), on behalf of itself; Entergy Nuclear Indian Point 2, LLC; Entergy Nuclear Indian Point 3, LLC; Holtec International; and Holtec Decommissioning International, LLC (HDI) (collectively, the applicants). The application is seeking NRC approval of the transfer of control of Provisional Operating License No. DPR-5 and Renewed Facility Operating License Nos. DPR-26 and DPR-64 for Indian Point Nuclear Generating, Unit Nos. 1, 2, and 3, respectively, as well as the general license for the Indian Point Energy Center Independent Spent Fuel Storage Installation (collectively, the licenses). Specifically, the application requests that the NRC consent to (1) the transfer of control of the licenses to Holtec subsidiaries to be known as Holtec Indian Point 2, LLC and Holtec Indian Point 3, LLC and (2) the transfer of ENOI's operating authority to HDI. The NRC is also considering amending the licenses for administrative purposes to reflect the proposed transfer. The public comment period on this action was originally scheduled to close on February 24, 2020. The NRC has decided to extend the public comment period until March 25, 2020, to allow more time for members of the public to develop and submit their comments. The period to request a hearing and petition for leave to intervene is not being extended.

Dated at Rockville, Maryland, this 13th day of February, 2020.
For the Nuclear Regulatory Commission.
James G. Danna,
Chief, Plant Licensing Branch I, Division of Operating Reactor Licensing, Office of Nuclear Reactor Regulation.

[FR Doc. 2020-03258 Filed 2-18-20; 8:45 am]

BILLING CODE 7590-01-P